DEPARTMENT OF LABOR

Office of the Acting Secretary

All Items Consumer Price Index for All Urban Consumers; United States City Average

Pursuant to section 33105(c) of title 49, United States Code, and the delegation of the Secretary of Transportation's responsibilities under that Act to the Administrator of the Federal Highway Administration (49 CFR 1.95 (a)), the Secretary of Labor has certified to the Administrator and published this notice in the Federal Register that the United States City Average All Items Consumer Price Index for All Urban Consumers (1967=100) increased 193.3 percent from its 1984 annual average of 311.1 to its 2023 annual average of 912.751.

Signed at Washington, DC.
Julie A. Su,
Acting Secretary of Labor.

[FR Doc. 2024-16783 Filed 7-30-24; 8:45 am]

BILLING CODE 4510-24-P